DEPARTMENT OF ENERGY

10 CFR Part 433

[EERE-2010-BT-STD-0031]

RIN 1904-AB96

Clean Energy for New Federal Buildings and Major Renovations of Federal Buildings; Correction

AGENCY: Federal Energy Management Program, Department of Energy.

ACTION: Final rule; correction.

SUMMARY: On May 1, 2024, the U.S. Department of Energy (“DOE”) published a final rule that adopted energy performance standards for certain new Federal buildings and Federal buildings undergoing major renovations. This document corrects errors in the regulatory text published with the final rule. These errors do not affect the substance of the rulemaking or any conclusions reached in support of the proposed rule.

DATES: Effective July 15, 2024.

FOR FURTHER INFORMATION CONTACT:

Mr. Rick Mears, U.S. Department of Energy, Office of the Under Secretary for Infrastructure, Federal Energy Management Program, FEMP-1, 1000 Independence Avenue SW, Washington, DC 20585-0121. Email: cer-information@hq.doe.gov.

Ms. Laura Zuber, U.S. Department of Energy, Office of the General Counsel, GC-33, 1000 Independence Avenue SW, Washington, DC 20585-0121. Telephone: (202) 586-4798. Email: laura.zuber@hq.doe.gov.

SUPPLEMENTARY INFORMATION:

I. Background

On May 1, 2024, DOE published a final rule (Final Rule) that adopted energy performance standards for certain new Federal buildings and Federal buildings undergoing major renovations. The Final Rule adopted revisions to the energy performance standards at title 10 of the Code of Federal Regulations (“CFR”) parts 433 and 435. 89 FR 35384. Since publication of the Final Rule, DOE has identified errors in the regulatory text adopted by the Final Rule. Specifically, DOE incorrectly numbered subparagraphs in 10 CFR 433.200(c). DOE is issuing this correction to provide correct subparagraph numbers for 10 CFR 433.200(c) and to revise an internal citation. The corrections are described in the following paragraphs.

II. Need for Correction

As published, the regulatory text in the Final Rule may lead to confusion regarding the application of certain paragraphs in 10 CFR 433.200(c) as two subsections are currently misidentified to fall under 10 CFR 433.200(c)(1)(ii), which applies to designs for new construction or major renovations of all Scope 1 fossil fuel using systems in certain Federal buildings that began during or after Fiscal Year 2030. Because this document would simply clarify the adopted regulatory text without making substantive changes to the energy performance standards adopted in Final Rule, the changes addressed in this document are technical in nature.

III. Procedural Issues and Regulatory Review

DOE has concluded that the determinations made pursuant to the various procedural requirements applicable to the Final Rule remain unchanged for these technical corrections to the regulatory text. These determinations are set forth in the Final Rule. 89 FR 35384, 35411-35415.

Pursuant to the Administrative Procedure Act, 5 U.S.C. 553(b), DOE finds that there is good cause to not issue a separate notice to solicit public comment on the technical corrections contained in this document. Issuing a separate notice to solicit public comment would be impracticable, unnecessary, and contrary to the public interest. As explained previously, the corrections in this document do not affect the substance of or any of the conclusions reached in support of the Final Rule. Additionally, given the Final Rule is a product of an extensive administrative record with numerous opportunities for public comment, DOE finds additional comment on the technical corrections is unnecessary. Therefore, providing prior notice and an opportunity for public comment on correcting objective errors that do not change the substance of the proposed energy performance standards serve no useful purpose.

Correction

In the FR Doc. 2024-08196 appearing on page 35384 in the Federal Register of Wednesday, May 1, 2024, the following corrections are made:

§ 433.200 [Corrected]

1. On page 35418, in the first column between the table and the equation, in § 433.200, paragraph (c)(1)(ii)(C) is redesignated as paragraph (c)(2);

2. On page 35418, in the second column between the table and the equation, in § 433.200, the paragraph (c)(1)(ii)(D) heading is redesignated as the paragraph (c)(3) heading;

3. On page 35418, in the second column between the table and the equation, in § 433.200, paragraph (c)(1)(ii)(D)(1) is redesignated as paragraph (c)(3)(i);

4. On page 35418, in the second column between the table and the equation, in § 433.200, in newly redesignated paragraph (c)(3)(i), the reference “paragraph (c)(1)(A)” is corrected to read as “paragraph (c)(1)(i)”; and

5. On page 35418, in the first column following the equation, in § 433.200, paragraph (c)(1)(ii)(D)(2) is redesignated as paragraph (c)(3)(ii).

Signing Authority

This document of the Department of Energy was signed on May 24, 2024, by Mary Sotos, the Director of the Federal Energy Management Program, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 29, 2024.
Treena V. Garrett,
Federal Register Liaison Officer, U.S. Department of Energy.

[FR Doc. 2024-12081 Filed 6-5-24; 8:45 am]

BILLING CODE 6450-01-P